FEDERAL COMMUNICATIONS COMMISSION

47 CFR Part 1

[WT Docket No. 00-230; FCC 03-113; DA 04-239; DA 04-252]

Promoting Efficient Use of Spectrum Through Elimination of Barriers to the Development of Secondary Markets

AGENCY: Federal Communications Commission.

ACTION: Final rule, announcement of effective date.

SUMMARY: The Wireless Telecommunications Bureau (Bureau) of the Federal Communications Commission (Commission) announces that certain Commission rules adopted in the Secondary Markets proceeding (WT Docket No. 00-230) in 2003, to the extent they contained information collection requirements relating to spectrum leasing notifications and applications that required approval by the Office of Management and Budget (OMB), are now in effect with the issuance of FCC Form 603-T.

DATES: Sections 1.913(a), 1.913(a)(3), 1.2002(d), 1.2003, 1.9003, 1.9020(e), 1.9030(e), and 1.9035(e), published at 68 FR 66252 (Nov. 25, 2003), contained information collection requirements that became effective on February 2, 2004, following approval by the Office of Management and Budget (OMB).

FOR FURTHER INFORMATION CONTACT: Paul Murray, Wireless Telecommunications Bureau, at (202) 418-7240, or via the Internet at Paul.Murray@fcc.gov; for additional information concerning the information collections contained in this document, contact Judith-B.Herman at (202) 418-0214, or via the Internet at Judith.B-Herman@fcc.gov.

Announcement of Effective Date of Certain Commission Rules

1. In the February 2, 2004 Public Notice, DA 04-252, 19 FCC Rcd 1911, the Wireless Telecommunications Bureau announced the availability of FCC Form 603-T for use by spectrum leasing parties filing spectrum leasing notifications and applications with the Commission, and the rules requiring use of FCC Form 603-T became effective as of that date. FCC Form 603-T contain information collection necessary for the implementation of certain spectrum leasing rules adopted by the Commission in 2003 in the Secondary Markets First Report and Order, published at 68 Fed. Reg. 66252 (Nov. 25, 2003). As noted therein, the effective date of certain of the Commission's spectrum leasing rules adopted in the Secondary Markets First Report and Order—specifically sections 1.913(a), 1.913(a)(3), 1.2002(d), 1.2003, 1.9003, 1.9020(e), 1.9030(e), and 1.9035(e)—would not become effective until the information collection requirements contained in those rules were approved by the Office of Management and Budget (OMB). The Bureau reiterated this discussion regarding the effective date of certain spectrum leasing rules in its Memorandum Opinion and Order, DA 04-239, 19 FCC Rcd 1542, January 30, 2004.

2. On January 29, 2004, OMB approved of the use of Form 603-T on an interim basis. Accordingly, the revisions to sections 1.913(a), 1.913(a)(3), 1.2002(d), 1.2003, and the new rules involving use of certain forms of information collection as set forth of 1.9003, 1.9020(e), 1.9030(e), and 1.9035(e) of the Commission's spectrum leasing rules, 47 CFR 1.913(a), 1.913(a)(3), 1.2002(d), 1.2003, 1.9003, 1.9020(e), 1.9030(e), and 1.9035(e), became effective with the issuance of FCC Form 603-T on February 2, 2004.

Federal Communications Commission.
Marlene H. Dortch,
Secretary.

[FR Doc. 04-25288 Filed 11-12-04; 8:45 am]

BILLING CODE 6712-01-P